DEPARTMENT OF HEALTH AND HUMAN SERVICES

[Document Identifier: OS-0990-New]

Agency Information Collection Request. 60-Day Public Comment Request

AGENCY: Office of the Secretary.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: Evaluation of the Marriage and Family Strengthening Grants for Incarcerated and Reentering Fathers and their Partners—OMB No. 0990-NEW-Assistant Secretary for Planning and Evaluation (ASPE).

Abstract: The Office of Family Assistance within the Administration for Children and Families (ACF) is conducting a demonstration program called Marriage and Family Strengthening Grants for Incarcerated and Re-entering Fathers and their Partners (MFS-IP). These demonstration programs are funded to support activities in the areas of marriage strengthening and responsible fatherhood among incarcerated and recently released fathers, their partners, and children. The Office of the Assistant Secretary for Planning and Evaluation (ASPE) is conducting an evaluation of these demonstration projects. The objective of the evaluation is to help to determine what types of marriage and family strengthening programs work best, what does not work, and what effects these programs may have on fostering healthy marriages, families and children for those involved in the criminal justice system. Information from the evaluation will assist federal, state, and community policymakers and patrons in deciding whether to replicate or redesign identified marriage and family strengthening program models.

The MFS-IP evaluation will assess the effects of marriage and family strengthening activities with incarcerated populations by comparing relationship quality and stability, positive family interactions, family financial well-being, recidivism, and community connectedness between intervention and control groups. Primary data for the evaluation will come from three waves of in-person data collection, including a baseline survey and follow-up surveys at approximately 6 and 12 months post-baseline. Data collection is expected to last 4 years, from the time the first participant is enrolled until the last 12-month follow-up survey is administered.

Estimated Annualized Burden Table
Instruments | Number of respondents | Number of responses per respondent | Average burden hours per response | Total burden hours
MFS-IP Baseline Survey—Fathers | 500 | 1 | 1.5 | 750
MFS-IP Baseline Survey—Partners | 500 | 1 | 1.5 | 750
MFS-IP Follow-up Survey—Fathers | 500 | 2 | 1.5 | 1,500
MFS-IP Follow-up Survey—Partners | 500 | 2 | 1.5 | 1,500
Total |  |  |  | 4,500

Alice Bettencourt,
Office of the Secretary, Paperwork Reduction Act Reports Clearance Officer.

[FR Doc. E7-23322 Filed 11-30-07; 8:45 am]

BILLING CODE 4150-05-P